DEPARTMENT OF JUSTICE

Notice of Loding of Consent Decree

In accordance with Departmental policy and 28 CFR 50.7, notice is hereby given that a proposed Consent Decree in United States v. Honeywell International Inc. (E.D. Va.), Civil Action No. 3:01CV789 was lodged on November 23, 2001 with the United States District Court for the Eastern District of Virginia. The Consent Decree resolves the United States' claims against defendant, Honeywell International Inc., with respect to violations of the Clean Air Act, the Comprehensive Environmental Response, Compensation, and Liability Act (“CERCLA”), the Emergency Planning and Community Right-to-Know Act (“EPCRA”), and the Resource Conservation and Recovery Act (“RCRA”) at its chemical manufacturing facility in Hopewell, Virginia.

Under the Consent Decree, defendant will pay the United States $110,000 in penalties. In addition, the defendant will implement five Supplemental Environmental Projects, or “SEPs,” at an estimated cost of $772,000. These SEPs include (1) within ten months of entry of the Consent Decree and at a cost of no less than $375,000, the conversion of a refrigeration unit from use of chlorfluorocarbon-based refrigerant to hydrofluorocarbon-based refrigerant; (2) within seventeen months of entry of the Consent Decree and at a cost of no less than $300,000, the installation of an air emissions control system to reduce the release of ammonia; (3) within forty-five (45) days of entry of the Consent Decree and at a cost of no less than $35,000, the purchase of a “reverse 911” interactive notification system for the Hopewell Local Emergency Planning Committee; (4) within forty-five (45) days of entry of the Consent Decree and at a cost of no less than $20,000, the purchase of a skirted boom and trailer and associated training services for the Henrico Regional Hazardous Incident Team; and (5) within forty-five (45) days of entry of the Consent Decree and at a cost of no less than $42,000, the purchase of mass decontamination equipment and associated training for emergency response teams at two local medical centers, the John Randolph Medical Center in Hopewell, VA and the Southside Regional Medical Center in Petersburg, VA.

The Department of Justice will receive, for a period of thirty (30) days from the date of this publication, comments relating to the proposed consent decree. Comments should be addressed to the Acting Assistant Attorney General for the Environmental and Natural Resources Division, Department of Justice, Washington, DC 20530, and should refer to United States v. Honeywell International, Inc., DOJ reference number 90-7-1-06900.

The proposed Consent Honeywell may be examined at the Office of the United States Attorney, 600 East Main Street, Suite 1800, Richmond, Virginia; and the Region III Office of the Environmental Protection Agency, 1650 Arch Street, Philadelphia, Pennsylvania. A copy of the proposed decree may be obtained by mail from the Department of Justice Consent Decree Library, P.O. Box 7611, Washington, DC 20044. In requesting a copy, please refer to the referenced case and enclose a check in the amount of $13.00 ($.25 per page for production costs), payable to the Consent Decree Library.

Robert D. Brook,
Assistant Chief, Environmental Enforcement Section, Environment and Natural Resources Division.

[FR Doc. 01-32219 Filed 12-31-01; 8:45 am]

BILLING CODE 4410-15-M